DEPARTMENT OF THE INTERIOR

National Park Service

Notice of Inventory Completion for Native American Human Remains and Associated Funerary Objects in the Possession of the Nevada State Museum, Carson City, NV

AGENCY: National Park Service, Interior.

ACTION: Notice.

Notice is hereby given in accordance with provisions of the Native American Graves Protection and Repatriation Act (NAGPRA), 43 CFR 10.9, of the completion of an inventory of human remains and associated funerary objects in the possession of the Nevada State Museum, Carson City, NV.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by Nevada State Museum professional staff in consultation with State Historic Preservation Office staff, and representatives of the Moapa Band of the Southern Paiute Tribe and the Hopi Tribe of Arizona, in coordination with the Southern Paiute Consortium.

At an unknown date, human remains representing one individual were removed from within the boundary of the Gibson Ranch, Lincoln County, NV, by an unknown person. At an unknown time these human remains were donated to the Nevada State Museum by an unknown person. No known individual was identified. The 55 associated funerary objects are glass and shell beads, and a projectile point.

Based on the presence of glass and shell beads, these human remains are identified as Native American. The glass beads also date the burial to the post-1840s contact period. Based on the date of the burial and the geographical location of the burial within the known historic territory of the Moapa Band of the Southern Paiute Tribe, these human remains are determined to be affiliated with the Moapa Band of the Southern Paiute Tribe.

Based on the above-mentioned information, officials of the Nevada State Museum have determined that, pursuant to 43 CFR 10.2 (d)(1), the human remains listed above represent the physical remains of one individual of Native American ancestry. Officials of the Nevada State Museum also have determined that, pursuant to 43 CFR 10.2 (d)(2), the 55 objects listed above are reasonably believed to have been placed with or near individual human remains at the time of death or later as part of the death rite or ceremony. Lastly, officials of the Nevada State Museum have determined that, pursuant to 43 CFR 10.2 (e), there is a relationship of shared group identity that can be reasonably traced between these Native American human remains and associated funerary objects and the Moapa Band of the Southern Paiute Tribe.

This notice has been sent to officials of the Moapa Band of the Southern Paiute Tribe. Representatives of any other Indian tribe that believes itself to be culturally affiliated with these human remains and associated funerary objects should contact Dr. Alanah Woody, Nevada Division of Museums and History NAGPRA Coordinator, 600 North Carson Street, Carson City, NV 89701, telephone (775) 687-4810, extension 229, before May 10, 2001. Repatriation of the human remains and associated funerary objects to the Moapa Band of the Southern Paiute Tribe may begin after that date if no additional claimants come forward.

Dated: March 26, 2001.
John Robbins,
Assistant Director, Cultural Resources Stewardship and Partnerships.

[FR Doc. 01-8701 Filed 4-9-01; 8:45 am]

BILLING CODE 4310-70-F